INTERNATIONAL TRADE COMMISSION

[Investigation No. 731-TA-859 (Final)]

Circular Seamless Stainless Steel Hollow Products From Japan; Determination

On the basis of the record ¹ developed in the subject investigation, the United States International Trade Commission determines,² pursuant to section 735(b) of the Tariff Act of 1930 (19 U.S.C. 1673d(b)) (the Act), that an industry in the United States is not materially injured or threatened with material injury, and the establishment of an industry in the United States is not materially retarded, by reason of imports from Japan of circular seamless stainless steel hollow products ³ that have been found by the Department of Commerce to be sold in the United States at less than fair value (LTFV).

¹ The record is defined in sec. 207.2(f) of the Commission's Rules of Practice and Procedure (19 CFR 207.2(f)).

² Chairman Koplan and Vice Chairman Okun dissenting.

³ For purposes of this investigation, Commerce has defined the subject merchandise as “pipes, tubes, redraw hollows, and hollow bars, of circular cross-section, containing 10.5 percent or more by weight chromium, regardless of production process, outside diameter, wall thickness, length, industry specification (domestic, foreign or proprietary), grade or intended use. Common specifications for the subject circular seamless stainless steel hollow products include, but are not limited to, ASTM-A-213, ASTM-A-268, ASTM-A-269, ASTM-A-270, ASTM-A-271, ASTM-A-312, ASTM-A-376, ASTM-A-498, ASTM-A-511, ASTM-A-632, ASTM-A-731, ASTM-A-771, ASTM-A-789, ASTM-A-790, ASTM-A-826 and their proprietary or foreign equivalents.”

The products subject to this investigation are covered by statistical reporting numbers 7304.10.5020; 7304.10.5050; 7304.10.5080; 7304.41.3005; 7304.41.3015; 7304.41.3045; 7304.41.6005; 7304.41.6015; 7304.41.6045; 7304.49.0005; 7304.49.0015; 7304.49.0045; and 7304.49.0060 of the Harmonized Tariff Schedule of the United States (HTS).

Background

The Commission instituted this investigation effective October 26, 1999, following receipt of a petition filed with the Commission and the Department of Commerce by Altx, Inc., Watervliet, NY; American Extruded Products Corp., Beaver Falls, PA; DMV Stainless USA, Inc., Houston, TX; Salem Tube, Inc., Greenville, PA; Sandvik, Steel Co., Scranton, PA; International Extruded Products LLC d/b/a Wyman-Gordon Energy Products—IXP Buffalo, Buffalo, NY; ⁴ and United Steelworkers of America, AFL-CIO/CLC, Pittsburgh, PA. The final phase of the investigation was scheduled by the Commission following notification of a preliminary determination by the Department of Commerce that imports of circular seamless stainless steel hollow products from Japan were being sold at LTFV within the meaning of section 733(b) of the Act (19 U.S.C. 1673b(b)). Notice of the scheduling of the Commission's investigation and of a public hearing to be held in connection therewith was given by posting copies of the notice in the Office of the Secretary, U.S. International Trade Commission, Washington, DC, and by publishing the notice in the Federal Register of May 10, 2000 (65 FR 30133). The hearing was held in Washington, DC, on July 12, 2000, and all persons who requested the opportunity were permitted to appear in person or by counsel.

⁴ On June 7, 2000, International Extruded withdrew from participation as a petitioner in this investigation.

The Commission transmitted its determination in this investigation to the Secretary of Commerce on August 25, 2000. The views of the Commission are contained in USITC Publication 3344 (September 2000), entitled Circular Seamless Stainless Steel Hollow Products from Japan: Investigation No. 731-TA-859 (Final).

Issued: August 25, 2000.
By order of the Commission.
Donna R. Koehnke,
Secretary.

[FR Doc. 00-22194 Filed 8-29-00; 8:45 am]

BILLING CODE 7020-02-U